DEPARTMENT OF AGRICULTURE

Office of the Secretary

Notice of the National Agricultural Research, Extension, Education, and Economics Advisory Board Specialty Crop Meeting and Executive Committee Meeting

AGENCY: Research, Education, and Economics, USDA.

ACTION: Notice of meeting.

SUMMARY: In accordance with the Federal Advisory Committee Act, 5 U.S.C. App 2, the United States Department of Agriculture announces a meeting of the National Agricultural Research, Extension, Education, and Economics Advisory Board Specialty Crop Committee and Executive Committee.

DATES: The National Agricultural Research, Extension, Education, and Economics Advisory Board Specialty Crop Committee will meet on August 29, 2007 and the Executive Committee will hold a meeting on August 29-30, 2007 at the Double Tree Hotel, 1150 Ninth Place, Modesto, California.

ADDRESSES: The public may file written comments before or up to two weeks after the meeting with the contact person. You may submit comments by any of the following methods: E-mail: smorgan@csrees.usda.gov; Fax: (202) 720-6199; Mail/Hand-Delivery or Courier: The National Agricultural Research, Extension, Education, and Economics Advisory Board; Research, Education, and Economics Advisory Board Office, Room 344-A, Jamie L. Whitten Building, United States Department of Agriculture, STOP 2255, 1400 Independence Avenue, SW., Washington, DC 20250-2255.

FOR FURTHER INFORMATION CONTACT: Shirley Morgan-Jordan, Program Support Coordinator, National Agricultural Research, Extension, Education, and Economics Advisory Board; telephone: (202) 720-8408.

SUPPLEMENTARY INFORMATION: On Wednesday, August 29, 2007, from 9 a.m. to 2 p.m., the Specialty Crop Committee will hold a listening session to study the scope and effectiveness of research, extension, and economics programs affecting the specialty crop industry. The purpose of this Specialty Crop meeting is to obtain regional input on research and education issues of high priority focusing on “Measures to Improve the Efficiency, Productivity and Profitability of Specialty Crop Production in the United States” and “Measures Designed to Improve Competitiveness to Research, Extension, and Economics Programs Affecting the Specialty Crop Industry.” Particular emphasis will be placed on further elaborating on the committee's last report entitled “U.S. Specialty Crops: An Update on Opportunities and Challenges”, which was released May 9, 2007.

On Wednesday, August 29, 2007 at 9 a.m., the general meeting will begin with introductory remarks provided by the Chair of the Specialty Crop Committee. The REE Under Secretary of Agriculture, Dr. Gale Buchanan, has been invited to provide opening remarks. Distinguished leaders and experts, organizations or institutions, local producers, or other groups interested in the issues with which the Specialty Crop Committee is charged are invited to provide comments on two or three of the most important recommendations from their perspective by which USDA can enhance its research, extension, education, and economic programs to address needs of our nation's specialty crop sector. Following the adjournment of the National Agricultural Research, Extension, Education, and Economics Advisory Board Specialty Crop Committee Listening Session on August 29, 2007, the Executive Committee will hold their meeting on Wednesday, 4 p.m. to 6:30 p.m. at the Double Tree Hotel, 1150 Ninth Place, Modesto, California. On Thursday, August 30, 2007, the Executive Committee will reconvene at 7:30 a.m. and complete all discussions to adjourn by 9:30 a.m. The Executive Committee will be discussing a number of issues relating to the Specialty Crop Committee and other forthcoming National Agricultural Research, Extension, Education, and Economics Advisory Board concerns.

Written comments by attendees or other interested stakeholders will be welcomed for the public record before and up to two weeks following the Board meeting (by close of business Wednesday, September 12, 2007). The findings of the Specialty Crop Committee and Executive Committee will be based on input from speakers, other stakeholders, the general public, and Board discussions. These findings will be forwarded to the Advisory Board, which in turn will provide recommendations to the Secretary of Agriculture and the House and Senate agriculture-related committee/subcommittees of the U.S. Congress, as well as the land-grant colleges and universities, as mandated. All statements will become a part of the official record of the National Agricultural Research, Extension, Education, and Economics Advisory Board and will be kept on file for public review in the Research, Extension, Education, and Economics Advisory Board Office.

Done at Washington, DC this 7th day of August, 2007.
Merle Pierson,
Deputy Under Secretary, Research, Education, and Economics.

[FR Doc. E7-15918 Filed 8-13-07; 8:45 am]

BILLING CODE 3410-22-P